OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Ms. Quasette Crowner, Chief, Executive Resources Group, Center for Leadership and Executive Resources Policy, Division for Strategic Human Resources Policy, 202-606-1579.

SUPPLEMENTARY INFORMATION: Appearing in the listing below are the individual authorities established under Schedule C between January 01, 2005, and January 31, 2005.

Future notices will be published on the fourth Tuesday of each month, or as soon as possible thereafter. A consolidated listing of all authorities as of June 30 is published each year.

Schedule A

No Schedule A's for January 2005.

Schedule B

Department of Agriculture 213.3213 (b)(1)

Temporary positions of professional Research Scientist, GS-15 or below, when such positions are established to support postdoctoral research programs of the Agricultural Research Service, Economic Research Service and the Forest Service when such positions are established to support the Research Associateship Program and are filled by persons having a doctoral degree in an appropriate field of study for research activities of mutual interest to appointees and the Agency. Appointments are limited to proposals approved by the appropriate Administrator. Appointments may be made for initial periods not to exceed 2 years and may be extended for up to 2 additional years. Extension beyond 4 years, up to a maximum of 2 additional years, may be granted, but only in very rare and unusual circumstances, as determined by the Human Resources Officer for the Research, Education, and Economics Mission Area, or the Human Resources Office, Forest Service. Effective March 03, 2004.

Schedule C

The following Schedule C appointments were approved for January 2005:

Section 213.3303 Executive Office of the President

Office of Management and Budget

BOGS00151 Deputy Press Secretary to the Associate Director, Strategic Planning and Communications. Effective January 12, 2005.

Office of National Drug Control Policy

QQGS00018 Administrative Specialist to Associate Director to the Associate Director, Public Affairs. Effective January 06, 2005.

Section 213.3304 Department of State

DSGS60807 Staff Assistant to the Senior Advisor to the Secretary and White House Liaison. Effective January 13, 2005.

DSGS60810 Staff Assistant to the Secretary of State. Effective January 14, 2005.

DSGS60806 Protocol Officer (Visits) to the Supervisory Protocol Officer (Visits). Effective January 21, 2005.

DSGS60808 Protocol Officer to the Deputy Chief of Protocol. Effective January 21, 2005.

DSGS60809 Legislative Management Officer to the Assistant Secretary for Legislative and Intergovernmental Affairs. Effective January 21, 2005.

Section 213.3305 Department of the Treasury

DYGS60407 Senior Advisor to the Assistant Secretary for Financial Markets. Effective January 19, 2005.

Section 213.3306 Department of Defense

DDGS16852 Special Assistant to the Under Secretary of Defense (Comptroller). Effective January 04, 2005.

DDGS16848 Defense Fellow to the Special Assistant to the Secretary of Defense for White House Liaison. Effective January 06, 2005.

DDGS16853 Research Assistant to the Speechwriter, Office of the Assistant Secretary of Defense (Public Affairs). Effective January 06, 2005.

DDGS16860 Speechwriter to the Speechwriter, Office of the Assistant Secretary of Defense (Public Affairs) Effective January 28, 2005.

Section 213.3310 Department of Justice

DJGS00387 Deputy Director and Press Secretary to the Director, Office of Public Affairs. Effective January 13, 2005.

DJGS00326 Deputy Chief of Staff to the Chief of Staff. Effective January 14, 2005.

DJGS00022 Research Assistant to the Director, Office of Public Affairs. Effective January 19, 2005.

DJGS00391 Special Assistant to the Director, Executive Office for the United States Attorneys. Effective January 25, 2005.

DJGS00375 Staff Assistant to the Director, Office of Public Affairs. Effective January 26, 2005.

DJGS00112 Assistant to the Attorney General. Effective January 27, 2005.

DJGS00214 Special Assistant to the Director of the Bureau of Justice Assistance. Effective January 27, 2005.

DJGS00376 Staff Assistant to the Director, Office of Public Affairs. Effective January 27, 2005.

Section 213.3311 Department of Homeland Security

DMGS00296 Special Assistant to the Executive Administrator, Mount Weather Operations. Effective January 05, 2005.

DMGS00287 Trip Coordinator to the Deputy Chief of Staff for Operations. Effective January 06, 2005.

DMGS00290 Executive Officer to the Ombudsman. Effective January 06, 2005.

DMGS00291 Executive Assistant to the Special Assistant to the Secretary (Private Sector). Effective January 06, 2005.

DMGS00288 Special Assistant to the Chief Financial Officer. Effective January 07, 2005.

DMGS00297 Assistant Director for Legislative Affairs for Border and Transportation Security to the Assistant Secretary for Legislative Affairs. Effective January 12, 2005.

DMGS00299 Executive Assistant to the Assistant Secretary for Border and Transportation Security Policy. Effective January 21, 2005.

DMGS00298 Press Assistant to the Communications Director for the Office for State & Local Government Coordination & Preparedness. Effective January 25, 2005.

DMGS00300 Special Assistant to the Assistant Secretary for Plans, Programs and Budgets. Effective January 25, 2005.

DMGS00303 Business Liaison to the Special Assistant to the Secretary (Private Sector). Effective January 25, 2005.

DMGS00301 Policy Advisor to the Officer of Civil Rights and Civil Liberties. Effective January 26, 2005.

DMGS00302 Special Assistant to the Executive Director, Homeland Security Advisory Council. Effective January 26, 2005.

Section 213.3312 Department of the Interior

DIGS61028 Deputy Director, Take Pride In America to the Executive Director, Take Pride In America. Effective January 25, 2005.

DIGS61029 Special Assistant to the Executive Director, Take Pride In America. Effective January 25, 2005.

DIGS61032 Special Assistant—External and Intergovernmental Affairs to the Director, External and Intergovernmental Affairs. Effective January 27, 2005.

DIGS61033 Special Assistant to the Executive Director, Take Pride In America. Effective January 27, 2005.

DIGS61034 Special Assistant to the Chief of Staff. Effective January 31, 2005.

Section 213.3313 Department of Agriculture

DAGS00729 Special Assistant to the Administrator, Rural Business Service. Effective January 13, 2005.

DAGS00732 Staff Assistant to the Chief, Natural Research Conservation Service. Effective January 18, 2005.

DAGS00733 Staff Assistant to the Executive Director for State Operations. Effective January 18, 2005.

DAGS00730 Special Assistant to the Deputy Assistant Secretary for Administration. Effective January 25, 2005.

DAGS00735 Staff Assistant to the Under Secretary for Marketing and Regulatory Programs. Effective January 25, 2005.

DAGS00736 Staff Assistant to the Under Secretary for Marketing and Regulatory Programs. Effective January 25, 2005.

DAGS00753 Special Assistant to the Deputy Under Secretary for Rural Development. Effective January 25, 2005.

DAGS00737 Staff Assistant to the Special Assistant to the Secretary. Effective January 27, 2005.

DAGS00738 Staff Assistant to the Under Secretary for Food Safety. Effective January 27, 2005.

DAGS00739 Staff Assistant to the Administrator for Risk Management. Effective January 27, 2005.

DAGS00741 Special Assistant to the Administrator, Rural Utilities Service. Effective January 27, 2005.

DAGS00746 Confidential Assistant to the Deputy Under Secretary for Rural Development. Effective January 31, 2005.

DAGS00750 Confidential Assistant to the Deputy Under Secretary for Rural Development. Effective January 31, 2005.

DAGS00753 Special Assistant to the Deputy Under Secretary for Rural Development. Effective January 31, 2005.

DAGS00756 Confidential Assistant to the Deputy Assistant Secretary for Congressional Relations. Effective January 31, 2005.

DAGS00758 Confidential Assistant to the Deputy Assistant Secretary for Congressional Relations. Effective January 31, 2005.

Section 213.3314 Department of Commerce

DCGS00536 Special Assistant to the Director Office of White House Liaison. Effective January 07, 2005.

Section 213.3315 Department of Labor

DLGS60147 Attorney Advisor to the Solicitor of Labor. Effective January 06, 2005.

DLGS60266 Chief of Staff to the Deputy Under Secretary for International Affairs. Effective January 18, 2005.

DLGS60008 Special Assistant to the Secretary of Labor. Effective January 21, 2005.

DLGS60074 Special Assistant to the Assistant Secretary for Public Affairs. Effective January 25, 2005.

DLGS60238 Legislative Assistant to the Assistant Secretary for Congressional and Intergovernmental Affairs. Effective January 25, 2005.

DLGS60011 Staff Assistant to the Chief Financial Officer. Effective January 26, 2005.

DLGS60042 Special Assistant to the Assistant Secretary for Public Affairs. Effective January 26, 2005.

DLGS60236 Legislative Officer to the Assistant Secretary for Congressional and Intergovernmental Affairs. Effective January 26, 2005.

DLGS60078 Staff Assistant to the Assistant Secretary for Policy. Effective January 27, 2005.

Section 213.3316 Department of Health and Human Services

DHGS60315 Special Assistant to the Secretary, Health and Human Services. Effective January 27, 2005.

Section 213.3317 Department of Education

DBGS00365 Special Assistant to the Director, White House Initiative on Hispanic Education. Effective January 06, 2005.

DBGS00364 Associate Assistant Deputy Secretary for Parental Rights and Choice to the Assistant Deputy Secretary for Innovation and Improvement. Effective January 18, 2005.

DBGS00144 Special Assistant to the Press Secretary. Effective January 24, 2005.

DBGS00367 Special Assistant to the Secretary of Education. Effective January 24, 2005.

DBGS00298 Confidential Assistant to the Secretary of Education. Effective January 31, 2005.

Section 213.3318 Environmental Protection Agency

EPGS03300 Public Affairs Specialist to the Deputy Associate Administrator for Public Affairs. Effective January 27, 2005.

Section 213.3332 Small Business Administration

SBGS00561 Deputy Director for Small Business Administration's Center for Faith-Based and Community Initiatives to the Director of Small Business Administration's Center for Faith-Based and Community Initiatives. Effective January 27, 2005.

SBGS00562 Special Assistant to the Associate Administrator for Field Operations. Effective January 27, 2005.

SBGS00565 Special Assistant to the Chief of Staff and Chief Operating Officer. Effective January 27, 2005.

SBGS00567 Policy Analyst to the Associate Administrator for Policy. Effective January 27, 2005.

SBGS00569 Special Assistant to the Chief of Staff and Chief Operating Officer. Effective January 27, 2005.

SBGS00568 Speechwriter to the Associate Administrator for Communications and Public Liaison. Effective January 28, 2005.

Section 213.3337 General Services Administration

GSGS60100 Deputy Associate Administrator for Congressional and Intergovernmental Affairs to the Associate Administrator for Congressional and Intergovernmental Affairs. Effective January 27, 2005.

GSGS00063 Director of Marketing to the Deputy Associate Administrator for Communications. Effective January 28, 2005.

Section 213.3351 Federal Mine Safety and Health Review Commission

FRGS60017 Confidential Assistant to the Chairman. Effective January 19, 2005.

Section 213.3356 Commission on Civil Rights

CCGS60033 Special Assistant to a Commissioner. Effective January 26, 2005.

Section 213.3360 Consumer Product Safety Commission

PSGS60049 Special Assistant (Legal) to the Chairman. Effective January 21, 2005.

Section 213.3379 Commodity Futures Trading Commission

CTGS60003 Administrative Assistant to the Commissioner. Effective January 10, 2005.

Section 213.3384 Department of Housing and Urban Development

DUGS60546 Special Assistant to the Deputy Secretary. Effective January 18, 2005.

DUGS60078 Staff Assistant to the Assistant Secretary for Administration. Effective January 26, 2005.

DUGS60114 Staff Assistant to the Assistant Secretary for Administration. Effective January 26, 2005.

DUGS60179 Staff Assistant to the Director of Executive Scheduling. Effective January 26, 2005.

DUGS60211 Staff Assistant to the Director of Executive Scheduling. Effective January 26, 2005.

Section 213.3391 Office of Personnel Management

PMGS00049 Legislative Assistant to the Chief, Office of House Affairs. Effective January 10, 2005.

Section 213.3394 Department of Transportation

DTGS60054 Associate Director for Governmental Affairs to the Deputy Assistant Secretary for Governmental Affairs. Effective January 27, 2005.

DTGS60202 Special Assistant to the Administrator. Effective January 27, 2005.

DTGS60274 Special Assistant to the Assistant to the Secretary and Director of Public Affairs. Effective January 27, 2005.

DTGS60301 Associate Director for Governmental Affairs to the Deputy Assistant Secretary for Governmental Affairs. Effective January 27, 2005.

Authority: 5 U.S.C. 3301 and 3302; E.O. 10577, 3 CFR 1954-1958 Comp., P.218.

Dan G. Blair,
Acting Director, Office of Personnel Management.

[FR Doc. 05-3233 Filed 2-18-05; 8:45 am]

BILLING CODE 6325-38-P